DEPARTMENT OF HOMELAND SECURITY

Coast Guard

[Docket No. USCG-2024-0190]

National Towing Safety Advisory Committee; September 2024 Meeting

AGENCY: U.S. Coast Guard, Department of Homeland Security.

ACTION: Notice of open Federal advisory committee meetings.

SUMMARY: The National Towing Safety Advisory Committee (Committee) will meet in person along with the four subcommittees: The Rulemaking Improvements to Subchapter M Subcommittee, The Statutory Information Requirements Within Accommodations Spaces on Merchant Vessels Subcommittee, The Master Key Control Requirements Aboard Merchant Vessels Subcommittee, and The Maritime Administration (MARAD) Maritime Workforce Group Report on the Maritime Workforce Subcommittee. The Committee and the four Subcommittees will meet in public over two days in Portland, Maine, to review and discuss matters relating to shallow-draft inland navigation, coastal waterway navigation, and towing safety. These meetings will be open to the public.

DATES:

Meetings: National Towing Safety Advisory Committee will be called to order and have four open Subcommittee meetings on Tuesday, September 24, 2024, from 8 a.m. until 5 p.m. Eastern Daylight Time (EDT). The Rulemaking Improvements to Subchapter M Subcommittee will meet from 8:30 a.m. until 9:30 a.m. (EDT), The Statutory Information Requirements Within Accommodations Spaces on Merchant Vessels Subcommittee will meet from 9:30 a.m. until 10:30 a.m. (EDT), The Master Key Control Requirements Aboard Merchant Vessels Subcommittee will meet from 10:30 a.m. until 11:30 a.m. (EDT), and The MARAD Maritime Workforce Group Report on the Maritime Workforce Subcommittee will meet from 12:30 a.m. until 1:30 p.m. (EDT). The full committee will meet on Wednesday, September 25, 2024, from 8 a.m. until 5 p.m. (EDT). Please note that if a Subcommittee meeting ends early the next Subcommittee meeting will not start prior to its listed time. If the full Committee has completed its business the meeting may end early.

Comments and supporting documentation: To ensure your comments are received by Committee and Subcommittee members before the meetings, submit your written comments no later than September 11, 2024.

ADDRESSES: These meetings will be held at the AC Hotel Portland Downtown/Waterfront, 158 Fore Street Portland, ME 04101.

Pre-registration Information: Pre-registration is not required to attend the Committee or Subcommittee meetings. Please ensure you arrive at least 15 minutes prior to the five meetings listed, we will provide you with appropriate handouts that the Committee and Subcommittee members have in their possession.

The National Towing Safety Advisory Committee is committed to ensuring all participants have equal access regardless of disability status. If you require reasonable accommodation due to a disability to fully participate, please email Mr. Matthew D. Layman at Matthew.D.Layman@uscg.mil or call at 202-372-1421 as soon as possible.

Instructions: You are free to submit comments at any time, including orally at the meetings, but if you want Committee members or Subcommittee members to review your comment before the meetings, please submit your comments no later than September 11, 2024. We are particularly interested in comments on the topics in the “Agenda” section below. We encourage you to submit comments through Federal Decision Making Portal at https://www.regulations.gov. To do so, go to https://www.regulations.gov type USCG 2024-0190 in the search box and click “Search”. Next, look for this document in the Search Results column, and click on it. Then click on the Comment option. If your material cannot be submitted using https://www.regulations.gov, call or email the individual in the FOR FURTHER INFORMATION CONTACT section of this document for alternate instructions. You must include the docket number USCG-2024-0190. Comments received will be posted without alteration at https://www.regulations.gov including any personal information provided. You may wish to review the Privacy and Security Notice, found via link on the homepage of https://www.regulations.gov, and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Matthew D. Layman, Designated Federal Officer of the National Towing Safety Advisory Committee, telephone 202-372-1421, or Matthew.D.Layman@uscg.mil.

SUPPLEMENTARY INFORMATION: Notice of these meetings is in compliance with the Federal Advisory Committee Act, (Pub. L. 117-286, 5, U.S.C. ch. 10). The National Towing Safety Advisory Committee was authorized by section 601 of the Frank LoBiondo Coast Guard Authorization Act of 2018, (Pub. L. 115-282, 132 Stat. 4190), and is codified in 46 U.S.C. 15108. The Committee operates under the provisions of the Federal Advisory Committee Act, and 46 U.S.C. 15109. The Committee provides advice and recommendations to the Secretary of Homeland Security through the Commandant of the U.S. Coast Guard, on matters related to shallow-draft inland navigation, coastal waterway navigation, and towing safety.

Agenda

The agenda for the National Towing Safety Advisory Committee is as follows:

The Committee Meeting Agenda, September 24, 2024

I. Opening

a. Call to order/Designated Federal Officer Remarks.

b. Committee Chairperson Remarks.

c. Committee Adjourn for Subcommittee work.

II. Subcommittee Working Session

a. Task #22-01, Recommendations to the Coast Guard for Rulemaking Improvements to Subchapter M will meet from 8:30 a.m. until 9:30 a.m. (EDT);

b. Task #24-01, Recommendations for Statutory Information Requirements Within Accommodations Spaces on Merchant Vessels will meet from 9:30 a.m. until 10:30 a.m. (EDT);

c. Task #24-02, Recommendations for Master Key Control Requirements Aboard Merchant Vessels will meet from 10:30 a.m. until 11:30 a.m. (EDT);

d. Task #24-03, Recommendations for MARAD's Maritime Workforce Group Report on the Maritime Workforce will meet from 12:30 a.m. until 1:30 p.m. (EDT).

The agenda of each Subcommittee meeting will include the following:

(1) Call to order by Subcommittee Chair.

(2) Subcommittee discussion and preparation of draft recommendations for the full Committee pertaining to task.

(3) Public comment period.

(4) Adjournment of Subcommittee meetings.

III. Full Committee Working Session

a. U.S. Coast Guard E-Gov Travel Service Briefing.

b. CG-Operating and Environmental Standards Q & A.

c. Review New Task Statements.

IV. Adjournment of Meeting

The Committee Meeting Agenda, September 25, 2024

I. Opening

a. Call to Order/Designated Federal Officer Remarks.

b. Committee Chairperson Remarks.

c. Roll Call and Determination of Quorum.

d. U.S. Coast Guard Leadership Remarks.

II. Administration

a. Adoption of Meeting Agenda.

b. Approval of Meeting Minutes for May 1, 2024 Committee Meeting.

III. Briefs on the Tasks

a. Task #22-01, Recommendations to the U.S. Coast Guard for Rulemaking Improvements to Subchapter M Subcommittee;

1. Subcommittee Chair Briefs the Committee.

2. Public Comment Period.

3. Committee Deliberations.

4. Committee Vote.

b. Task #24-01, Recommendations for Statutory Information Requirements Within Accommodations Spaces on Merchant Vessels Subcommittee;

1. Subcommittee Chair Briefs the Committee.

2. Public Comment Period.

3. Committee Deliberations.

4. Committee Vote.

c. Task #24-02, Recommendations for Master Key Control Requirements Aboard Merchant Vessels Subcommittee;

1. Subcommittee Chair Briefs the Committee.

2. Public Comment Period.

3. Committee Deliberations.

4. Committee Vote.

d. Task #24-03, Recommendations for MARAD's Maritime Workforce Group Report on the Maritime Workforce Subcommittee.

1. Subcommittee Chair Briefs the Committee.

2. Public Comment Period.

3. Committee Deliberations.

4. Committee Vote.

IV. New Business

a. Vetting Subcommittee Update.

b. Committee Planning.

V. Information Session

a. U.S. Coast Guard District 1 Prevention.

b. U.S. Army Corps of Engineers—Navigation, Trident Initiative.

c. U.S. Coast Guard—Bridges, Permit and Oversight.

d. U.S. Coast Guard—Investigations.

VI. Committee Discussion

VII. Public Comment Period

VIII. Closing Remarks and Plans for Next Meeting

IX. Adjournment of Meeting

A copy of all pre-meeting documentation will be available at https://www.dco.uscg.mil/Our-Organization/Assistant-Commandant-for-Prevention-Policy-CG-5P/Commercial-Regulations-standards-CG-5PS/Office-of-Operating-and-Environmental-Standards/vfos/TSAC/ no later than September 11, 2024. Alternatively, you may contact Mr. Matthew Layman as noted above in the FOR FURTHER INFORMATION CONTACT section above.

Please contact the individual listed in the FOR FURTHER INFORMATION CONTACT section if you wish to make a public comment. All public comments will be no longer than 3 minutes.

Notice of Future 2024 Committee Meetings

To receive automatic email notices of future National Towing Safety Advisory Committee meetings in 2024, go to the online docket, USCG-2024-0190 (https://www.regulations.gov/docket/USCG-2024-0190). Next, click on the “Subscribe” email icon. We plan to use the same docket number for notices of all 2024 meetings of this Committee. When the next meeting notice is published and added to the docket, you will receive an email alert. In addition, you will receive notices of other items being added to the docket.

Dated: August 19, 2024.
Jeffrey G. Lantz,
Director of Commercial Regulations and Standards.

[FR Doc. 2024-19044 Filed 8-23-24; 8:45 am]

BILLING CODE 9110-04-P